Title 3—

The President

Memorandum of January 8, 2018

Supporting Broadband Tower Facilities in Rural America on Federal Properties Managed by the Department of the Interior

Memorandum for the Secretary of the Interior

By the authority vested in me as President by the Constitution and the laws of the United States of America, it is hereby ordered as follows:

Section 1. Policy. It is the policy of the executive branch to use all viable tools to accelerate the deployment and adoption of affordable, reliable, modern high-speed broadband connectivity in rural America, including rural homes, farms, small businesses, manufacturing and production sites, tribal communities, transportation systems, and healthcare and education facilities. Lowering the costs of broadband deployment to rural areas can strengthen the business case for broadband facilities deployment and therefore amplify investments in broadband infrastructure. To that end, the executive branch will seek to make Federal assets more available for rural broadband deployment, with due consideration of national security concerns.

Sec. 2. Supporting Broadband Deployment. (a) The Secretary of the Interior (Secretary) shall develop a plan to support rural broadband development and adoption by increasing access to tower facilities and other infrastructure assets managed by the Department of the Interior (DOI), consistent with applicable law and to the extent practicable. DOI shall draft model terms and conditions for use in securing tower facilities and other infrastructure assets for broadband deployment.

(b) Within 180 days of the date of this memorandum, the Secretary shall report to the Director of the Office of Science and Technology Policy recording DOI's progress in identifying the assets that can be used to support rural broadband deployment and adoption.

Sec. 3. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

THE WHITE HOUSE,

Washington, January 8, 2018

[FR Doc. 2018-00628

Filed 1-11-18; 8:45 am]

Billing code 3295-F8-P